DEPARTMENT OF HEALTH AND HUMAN SERVICES

Centers for Disease Control and Prevention

[60Day-09-0788]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Registry of Unexplained Fatiguing Illnesses and Chronic Fatigue Syndrome (CFS) in and around Bibb County, Georgia, (OMB No. 0920-0788)—Extension—National Center for Zoonotic, Vector-borne and Enteric Diseases (NCZVED), Centers for Disease Control and Prevention (CDC).

Background and Brief Description

CDC has been conducting a provider-based Registry for unexplained fatiguing illnesses and CFS for almost one year. During this time, the objective of the registry was to identify persons with unexplained fatiguing illnesses, including CFS, who access the healthcare system and endorse referral criteria: Age 12 to 59 years with ≥1 month of severe fatigue plus one other core CFS symptom and no exclusionary conditions. Eligible patients undergo a telephone interview to assess symptoms and exclusionary criteria. If they meet age and exclusionary criteria and endorse ≥6 months of symptoms, they are invited for a 1-day clinical evaluation, including a physical exam, collection of specimens (blood, urine and saliva), and psychiatric interview to further assess exclusionary conditions, and answer self-administered questionnaires to measure symptoms, functioning and exposure to potential risk factors. Over 800 health-care providers of various medical and alternative medicine specialties have enrolled and have referred over 50 patients.

CDC plans to continue to enroll patients in the Registry study using the same protocol. Specific aims of the registry are: (1) Continue to identify and enroll patients with CFS and other unexplained fatiguing illnesses who are receiving medical and ancillary medical care and describe their epidemiologic and clinical characteristics; (2) assess and monitor the health care providers' knowledge, attitudes, and beliefs concerning CFS; (3) and to identify well-characterized CFS patients for future clinical studies and intervention trials. These specific aims require inclusion of subjects in early stages of CFS (i.e., ill less than one year duration) who can be followed longitudinally to assess changes in their CFS symptoms; persons with longer duration of fatigue will also be eligible.

There is no cost to respondents other than their time.

Estimate of Annualized Burden Table
Respondent | Number of respondents | Number of responses per respondent | Average burden per response (hours) | Total burden (hours)
Referring Providers | 200 | 2 | 5/60 | 33
Patient consent to be contacted | 340 | 1 | 10/60 | 57
Patient Telephone Interview | 289 | 1 | 44/60 | 212
Patient Clinical Evaluation | 221 | 1 | 9 | 1,989
Total Burden |  |  |  | 2,291

Dated: June 30, 2009.
Maryam I. Daneshvar,
Acting Reports Clearance Officer, Centers for Disease Control and Prevention.

[FR Doc. E9-16141 Filed 7-7-09; 8:45 am]

BILLING CODE 4163-18-P